ENVIRONMENTAL PROTECTION AGENCY

[FRL-8495-6]

Science Advisory Board Staff Office; Notification of a Public Teleconference of the Science Advisory Board; Panel for the Review of EPA's 2007 Report on the Environment

AGENCY: Environmental Protection Agency (EPA).

ACTION: Notice.

SUMMARY: The Environmental Protection Agency (EPA or Agency) Science Advisory Board (SAB) Staff Office announces a public teleconference of the SAB Panel for the Review of EPA's 2007 Report on the Environment. The teleconference is being held to discuss the Panel's draft advisory report.

DATES: The teleconference will be held on December 10, 2007 from 1 p.m. to 4 p.m. (Eastern Time).

FOR FURTHER INFORMATION CONTACT: Any member of the public wishing further information regarding the public teleconference may contact. Dr. Thomas Armitage, Designated Federal Officer (DFO). Dr. Armitage may be contacted at the EPA Science Advisory Board (1400F), U.S. Environmental Protection Agency, 1200 Pennsylvania Avenue, NW., Washington, DC 20460; or via telephone/voice mail: (202) 343-9995; fax (202) 233-0643; or e-mail at: armitage.thomas@epa.gov. General information about the EPA SAB, as well as any updates concerning the teleconference announced in this notice, may be found in the SAB Web site at: http://www.epa.gov/sab.

SUPPLEMENTARY INFORMATION: Pursuant to the Federal Advisory Committee Act, Public Law 92-463, notice is hereby given that the SAB Panel for the Review of EPA's 2007 Report on the Environment will hold a public teleconference to discuss a draft advisory report on EPA's Report on the Environment 2007: Science Report. The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies.

Background: In 2003, EPA issued a draft Report on the Environment describing the status of and trends in the environment and human health. The draft 2003 Report on the Environment was reviewed by the SAB (see http://www.epa.gov/sab/pdf/sab_05_004.pdf). EPA used advice received from the SAB and comments from stakeholders to develop an improved and updated draft Report on the Environment 2007. The Report on the Environment 2007 consists of: a Science Report (ROE 2007 Science Report) containing detailed scientific and technical information, a Highlights Document written for concerned citizens, and an electronic document facilitating access to material in the reports. The ROE 2007 Science Report asks key questions about the current status of, and trends in, the condition of the environment and human health. These questions are intended to be relevant to EPA's current regulatory and programmatic activities and mission, and they have been answered using a suite of environmental and human health indicators.

EPA's Office of Research and Development requested that the SAB review the ROE 2007 Science Report. In response to EPA's request, the SAB Staff Office formed the Panel for the Review of EPA's 2007 Report on the Environment. Background information on the Panel formation process was provided in a Federal Register notice published on May 25, 2006 (71 FR 30138). The Panel has previously held two teleconferences and a face-to-face meeting (72 FR 29498; 72 FR 56342). Information about the SAB Panel for the Review of EPA's 2007 Report on the Environment is available on the SAB Web site at: http://www.epa.gov/sab.

Availability of Meeting Materials: The draft Report on the Environment 2007: Science Report reviewed by the SAB Panel is available on the following EPA Office of Research and Development Web site: http://cfpub.epa.gov/ncea/cfm/recordisplay.cfm?deid=140917. The agenda and other material for the upcoming public teleconference will be posted on the SAB Web site at: http://www.epa.gov/sab in advance of the teleconference.

Procedures for Providing Public Input: Interested members of the public may submit relevant written or oral information for the SAB Panel to consider during the advisory process. Oral Statements: In general, individuals or groups requesting an oral presentation at a public teleconference will be limited to three minutes per speaker, with no more than a total of 30 minutes for all speakers. Interested parties should contact Dr. Armitage, DFO, in writing (preferably via e-mail) at the contact information noted above, no later than December 3, 2007 to be placed on a list of public speakers for the teleconference. Written Statements: Written statements should be received in the SAB Staff Office by December 3, 2007 so that the information may be made available to the SAB Panel members for their consideration. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Dr. Armitage at the phone number or e-mail address noted above, preferably at least ten days prior to the meeting to give EPA as much time as possible to process your request.

Dated: November 9, 2007.
Vanessa T. Vu,
Director, EPA Science Advisory Board Staff Office.

[FR Doc. E7-22452 Filed 11-15-07; 8:45 am]

BILLING CODE 6560-50-P